NATIONAL AERONAUTICS AND SPACE ADMINISTRATION

[Notice (11-028)]

NASA Advisory Council; Exploration Committee; Meeting.

AGENCY: National Aeronautics and Space Administration.

ACTION: Notice of Meeting.

SUMMARY: In accordance with the Federal Advisory Committee Act, Public Law 92-463, as amended, the National Aeronautics and Space Administration announces a meeting of the Exploration Committee of the NASA Advisory Council.

DATES: Tuesday, April 26, 2011, 1 p.m.-6 p.m., Local Time

ADDRESSES: NASA Headquarters, 300 E Street, SW., Room 7S40, Washington, DC 20546

FOR FURTHER INFORMATION CONTACT: Dr. Bette Siegel, Exploration Systems Mission Directorate, National Aeronautics and Space Administration Headquarters, 300 E Street SW., Washington, DC 20546, 202/358-2245; bette.siegel@nasa.gov.

SUPPLEMENTARY INFORMATION: The agenda topics for the meeting will include:

• Update on the Exploration Program

• Recapturing a Future for Space Exploration: Life and Physical Sciences Research for a New Era

• Commercial Program Status

• Global Exploration

The meeting will be open to the public up to the seating capacity of the room. It is imperative that the meeting be held on these dates to accommodate the scheduling priorities of the key participants. Visitors will need to show a picture identification such as driver's license to enter the NASA Headquarters building (West Lobby—Visitor Control Center), and must state they are attending the NASA Advisory Council Exploration Committee meeting in Room 7S40. Further, no later than April 15, 2011, all non-U.S. citizens must submit the following information to Ms. Shawanda Robinson, Room 7N25, NASA Headquarters, 300 E Street, SW., Washington, DC 20546; Fax (202) 358-2886: Name, current address, citizenship, company affiliation (if applicable) to include address, telephone number, and their title, place of birth, date of birth, U.S. visa information to include type, number, and expiration date, U.S. Social Security Number (if applicable), Permanent Resident Alien card number and expiration date (if applicable), place and date of entry into the U.S., and passport information to include country of issue, number, and expiration date. To expedite admittance, attendees with U.S. citizenship can provide identifying information 3 working days in advance of the meeting day.

For questions, please call Shawanda Robinson at (202) 358-1566.

Dated: March 29, 2011.
P. Diane Rausch,
Advisory Committee Management Officer, National Aeronautics and Space Administration.

[FR Doc. 2011-7951 Filed 4-4-11; 8:45 am]

BILLING CODE 7510-13-P